NATIONAL INDIAN GAMING COMMISSION

Notice of Intent To Prepare an Environmental Impact Statement and of a Scoping Meeting for the Federated Indians of Graton Rancheria Casino and Hotel Project, Sonoma County, CA

AGENCY: National Indian Gaming Commission.

ACTION: Notice of intent.

SUMMARY: The notice advises the public that the National Indian Gaming Commission (NIGC), in cooperation with the Federated Indians of Graton Rancheria and the Bureau of Indian Affairs (BIA), intends to gather information necessary for preparing an Environmental Impact Statement (EIS) for a proposed casino project to be located in Sonoma County, California. The purpose of the proposed action is to help address the socio-economic needs of the Federated Indians of Graton Rancheria. Details of the proposed action and location are provided below in the Supplemental Information section. The scoping process will include notifying the general public and federal, state, local, and tribal agencies of the proposed action. This notice also announces a public scoping meeting that will be held for the proposed action. The purpose of scoping is to identify public and agency concerns, and alternatives to be considered in the EIS.

DATES: Written comments on the scope of the EIS should arrive by April 1, 2004. The public hearing will be held on March 10, 2004, from 7 p.m. to 9 p.m., or until the last public comment is received.

ADDRESSES: Written comments on the scope of the EIS should be addressed to: Christine Nagle, NEPA Coordinator, National Indian Gaming Commission, 1441 L Street, NW., 9th Floor, Washington, DC 20005, telephone (202) 632-7003. Please include your name, return address, and the caption: “DEIS Scoping Comments, Graton Rancheria Casino Project”, on the first page of your written comments.

The public hearing will be co-hosted by the NIGC, BIA, and the Federated Indians of Graton Rancheria. The meeting location is the: Luther Burbank Center for the Arts, Ruth Finley Person Theater, 50 Mark West Spring Road, Santa Rosa, CA 95403.

FOR FURTHER INFORMATION CONTACT: For general information on NEPA review procedures or status of the NEPA review, contact Christine Nagle, NIGC NEPA Coordinator, 202-632-7003.

SUPPLEMENTARY INFORMATION: The proposed federal action is the approval of a gaming management contract between the Federated Indians of Graton Rancheria and SC Sonoma Management LLC. The approval of the gaming management contract would result in the development of a resort hotel, casino, and supporting facilities. The facility will be managed by SC Sonoma Management LLC on behalf of the Federated Indians of Graton Rancheria, pursuant to the terms of a gaming management contract. The proposed development would take place on up to 450 acres (the project site) that will be taken into trust on behalf of the Federated Indians of Graton Rancheria. The project site is located immediately west of the City of Rohnert Park in Sonoma County, and within one mile of U.S. Highway 101. Nearby land uses include agricultural uses such as livestock grazing and dairy operations, rural residential uses, a mobile home park, industrial and commercial development, and open space. In addition to the proposed action, a reasonable range of alternatives, including a no action alternative will be analyzed in the EIS.

The Federated Indians of Graton Rancheria consists of approximately 999 members. It is governed by a tribal council, consisting of seven members, under a constitution that was passed by vote of the members on December 14, 2002, and approved by the Secretary of the Interior on December 23, 2002. The Federated Indians of Graton Rancheria presently has no land in trust with the U.S. Government and is eligible to acquire land for reservation purposes to be placed in trust.

The NIGC will serve as lead agency for compliance with the National Environmental Policy Act (NEPA). The BIA will be a Cooperating Agency.

Public Comment Solicitation: Written comments pertaining to the proposed action will be accepted throughout the EIS planning process. However, to ensure proper consideration in preparation of the draft EIS, scoping comments should be received by April 1, 2004. The draft EIS is planned for publication and distribution in the second half of 2004.

Individual commenters may request confidentiality. If you wish us to withhold your name and/or address from public review or from disclosure under the Freedom of Information Act, you must state this prominently at the beginning of your written comment. Such requests will be honored to the extent allowed by law. Anonymous comments will not, however, be considered. All submissions from organizations or businesses, and from individuals identifying themselves as representatives or officials of organizations or businesses, will be made available for public inspection in their entirety.

Authority: This notice is published pursuant to Sec. 1503.1 of the Council of Environmental Quality Regulations (40 CFR, part 1500 through 1508 implementing the procedural requirements of the NEPA of 1969, as amended (42 U.S.C. 4371 et seq.)), and the NIGC NEPA Procedures Manual.

Dated: February 3, 2004.
Philip N. Hogen,
Chairman.

[FR Doc. 04-3044 Filed 2-11-04; 8:45 am]

BILLING CODE 7545-02-P